DEPARTMENT OF AGRICULTURE

Agricultural Marketing Service

7 CFR Parts 1150, 1160, 1205, 1207, 1209, 1210, 1215, 1216, 1218, 1219, 1220, 1230, 1240, 1250, 1260, and 1280

[Docket No. PY-02-006 Ext.]

RIN 0581-AC15

Proposed Rule To Exempt Organic Producers From Assessment by Research and Promotion Programs

AGENCY: Agricultural Marketing Service, USDA.

ACTION: Proposed rule; extension of comment period.

SUMMARY: Notice is hereby given that the comment period on the proposal to exempt producers and marketers of solely 100 percent organic products from paying assessments to any research and promotion program administered by the Agricultural Marketing Service (AMS) is extended.

DATES: Comments must be received by June 25, 2004.

ADDRESSES: Interested persons are invited to submit written comments concerning this proposed rule to Angela C. Snyder, Office of the Deputy Administrator, Poultry Programs, Agricultural Marketing Service, U.S. Department of Agriculture, 1400 Independence Avenue, SW., STOP 0256, Room 3932-South, Washington, DC 20250. Comments should be submitted in duplicate. Comments may also be submitted electronically to: organicassessment@usda.gov or http://www.regulations.gov. All comments should reference the docket number and the date and page number of this issue of the Federal Register. All comments received will be made available for public inspection at Poultry Programs, AMS, USDA, Room 3932-South, 1400 Independence Avenue, SW., Washington, DC 20250 during regular business hours. A copy of the proposed rule may be found at: http://www.ams.usda.gov/2002farmbill/organicexempt.

Pursuant to the Paperwork Reduction Act (PRA), send comments regarding the accuracy of the burden estimate, ways to minimize the burden, including the use of automated collection techniques or other forms of information technology, or any other aspect of this collection of information to the above address. Comments concerning the information collection under the PRA should also be sent to the Desk Officer for Agriculture, Office of Information and Regulatory Affairs, Office of Management and Budget, Washington, DC 20503.

FOR FURTHER INFORMATION CONTACT: Angela C. Snyder, Office of the Deputy Administrator, Poultry Programs, Agricultural Marketing Service, U.S. Department of Agriculture, 1400 Independence Avenue, SW., STOP 0256, Room 3932-South, Washington, DC 20250; (202) 720-4476; (202) 720-5631 (fax); or e-mail at organicassessment@usda.gov.

SUPPLEMENTARY INFORMATION: This proposed rule on the exemption of organic producers and marketers from assessment under research and promotion programs was published in the Federal Register on April 26, 2004 (69 FR 22690). The proposed rule invited comments through May 26, 2004. Also, pursuant to the Paperwork Reduction Act, comments on the information collection burden were to be received by June 25, 2004.

An attorney representing several organic dairy companies requested that the comment period be extended by thirty days to provide ample time for a thorough review and to ensure that those most likely to be affected by the proposed rule have the opportunity to review and understand it before submitting comments. This request was submitted in consideration of the organic industry's most significant annual tradeshow and the most recent National Organic Standards Board meeting, both of which coincided with the pending comment period.

An extension would provide interested persons more time to review and assess the proposed rule's impacts. Therefore, USDA is extending the period in which to file written comments until June 25, 2004. This notice is issued pursuant to the Farm Security and Rural Investment Act (Pub. L. 107-171); the Beef Promotion and Research Act of 1985; Commodity Promotion, Research, and Information Act of 1996; Cotton Research and Promotion Act; Dairy Production Stabilization Act of 1983; Egg Research and Consumer Information Act; Fluid Milk Promotion Act of 1990; Hass Avocado Promotion, Research, and Information Act of 2000; Honey Research, Promotion, and Consumer Information Act; Mushroom Promotion, Research, and Consumer Information Act of 1990; Popcorn Promotion, Research, and Consumer Information Act; Pork Promotion, Research, and Consumer Information Act of 1985; Potato Research and Promotion Act; Soybean Promotion, Research, and Consumer Information Act; and Watermelon Research and Promotion Act.

Dated: May 20, 2004.
Kenneth C. Clayton,
Acting Administrator, Agricultural Marketing Service.

[FR Doc. 04-11878 Filed 5-25-04; 8:45 am]

BILLING CODE 3410-02-P